DEPARTMENT OF TRANSPORTATION

Federal Railroad Administration

[Docket Number FRA-2007-27287]

Notice of Petition for Extension of Waiver of Compliance

AGENCY: Federal Railroad Administration (FRA), Department of Transportation (DOT).

ACTION: Notice.

SUMMARY: This document provides the public notice that by letter dated October 25, 2024, BNSF Railway (BNSF) petitioned FRA for an extension of relief from certain 2-year periodic testing requirements for its solid-state microprocessor-based equipment.

DATES: FRA must receive comments on the petition by May 2, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Scott Johnson, Railroad Safety Specialist, FRA Signal, Train Control, and Crossings Division, telephone: 406-210-3608, email: scott.j.johnson@dot.gov.

SUPPLEMENTARY INFORMATION: Under part 211 of title 49 Code of Federal Regulations (CFR), this document provides the public notice that by letter dated October 25, 2024, BNSF petitioned FRA for an extension of a waiver of compliance from certain provisions of the Federal railroad safety regulations contained at 49 CFR part 236, Rules, Standards, and Instructions Governing the Installation, Inspection, Maintenance, and Repair of Signal and Train Control Systems, Devices, and Appliances. The relevant Docket Number is FRA-2007-27287.

Specifically, BNSF seeks an extension of relief from the 2-year periodic testing requirements in §§ 236.377, Approach locking; 236.378, Time locking; 236.379, Route locking; 236.380, Indication locking; and 236.381, Traffic locking, for its solid-state microprocessor-based equipment. The existing waiver in this docket extends the testing requirements to at least once every four years.

In support of its request, BNSF states that “[s]ince this waiver has been active, microprocessor-based signal systems have proven to be safer and more reliable than traditional relay-based signal systems due to the significant reduction in possible points of failure.” BNSF contends that the regulation's 2-year requirement “provides no safety benefit over testing on a four-year interval given that BNSF's microprocessor-based equipment operates using programmed logic that, once installed, does not change.” In its petition, BNSF further explains that conducting periodic testing less frequently improves safety by “reducing the amount of disruption to signal circuits and train operations, as well as reducing potential employee exposures by spending less time foul of track.” Since 2009, when the waiver in this docket was initially granted, BNSF reports zero false proceed signal incidents due to microprocessor-based equipment controlling the locking.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by May 2, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-03361 Filed 2-28-25; 8:45 am]

BILLING CODE 4910-06-P